DEPARTMENT OF HOMELAND SECURITY

Coast Guard

33 CFR Part 100

[CGD05-07-039]

RIN 1625-AA08

Special Local Regulations for Marine Events; Chester River, Chestertown, MD

AGENCY: Coast Guard, DHS.

ACTION: Notice of enforcement of regulation.

SUMMARY: The Coast Guard is implementing the special local regulations at 33 CFR 100.533 during the Maryland Swim for Life swim event to be held on June 16, 2007. This action is necessary to provide for the safety of life on navigable waters before, during and after the event. The effect will be to restrict general navigation in the regulated area for the safety of event participants and support vessels in the event area.

EFFECTIVE DATES: The regulations at 33 CFR 100.533 will be enforced from 6:30 a.m. to 2 p.m. on June 16, 2007.

FOR FURTHER INFORMATION CONTACT: Ronald Houck, Marine Events Coordinator, Commander, Coast Guard Sector Baltimore, 2401 Hawkins Point Road, Baltimore, MD 21226-1971, and (410) 576-2674.

SUPPLEMENTARY INFORMATION: The Maryland Swim for Life Association will sponsor the “Maryland Swim for Life”, an open water swimming competition held on the waters of the Chester River, near Chestertown, Maryland. Approximately 100 swimmers will start from Rolph's Wharf and swim up-river 2.5 miles then swim down-river returning back to Rolph's Wharf. A large fleet of support vessels will be accompanying the swimmers. Therefore, to ensure the safety of participants and support vessels, 33 CFR 100.533 will be enforced for the duration of the event. Under provisions of 33 CFR 100.533, from 6:30 a.m. to 2 p.m. on June 16, 2007, vessels may not enter the regulated area unless they receive permission from the Coast Guard Patrol Commander. Vessel traffic may be allowed to transit the regulated area only when the Patrol Commander determines it is safe to do so.

In addition to this notice, the maritime community will be provided extensive advance notification via the Local Notice to Mariners and marine information broadcasts so mariners can adjust their plans accordingly.

Dated: April 24, 2007.
Larry L. Hereth,
Rear Admiral, U.S. Coast Guard, Commander, Fifth Coast Guard District.

[FR Doc. E7-8508 Filed 5-3-07; 8:45 am]

BILLING CODE 4910-15-P